DEPARTMENT OF THE INTERIOR

Fish and Wildlife Service

[FWS-R1-ES-2021-N005; FXES11130100000-212-FF01E00000]

Endangered and Threatened Wildlife and Plants; Draft Recovery Plan for White Bluffs Bladderpod

AGENCY: Fish and Wildlife Service, Interior.

ACTION: Notice of availability; request for review and public comment.

SUMMARY: We, the U.S. Fish and Wildlife Service, announce the availability of the Draft Recovery Plan for White Bluffs Bladderpod (Physaria douglasii subsp. tuplashensis), listed as threatened under the Endangered Species Act, and endemic to Franklin County, Washington. We request review and comment on this draft recovery plan from Federal, State, and local agencies; Native American Tribes; and the public.

DATES: To ensure consideration, comments on the draft recovery plan must be received on or before October 4, 2021. However, we will accept information about any species at any time.

ADDRESSES:

Document availability: Obtain the recovery plan by the following method.

• Internet: http://www.fws.gov/endangered/species/recovery-plans.html or http://www.fws.gov/pacific/ecoservices/endangered/recovery/plans.html.

Comment submission: You may submit written comments and materials by one of the following methods:

• U.S. mail: Jeff Krupka, Central Washington Field Office, at the above U.S. mail address.

• Fax: 360-753-9405.

• Email: WFWO_LR@fws.gov.

FOR FURTHER INFORMATION CONTACT: Brad Thompson, State Supervisor, U.S. Fish and Wildlife Service, Washington Fish and Wildlife Office, at the above U.S. mail address; telephone 360-753-4652. If you use a telecommunications device for the deaf, call the Federal Relay Service at 1-800-877-8339.

SUPPLEMENTARY INFORMATION: We, the U.S. Fish and Wildlife Service (Service), announce the availability of the Draft Recovery Plan for White Bluffs Bladderpod (Physaria douglasii subsp. tuplashensis). The subspecies, listed as threatened under the Endangered Species Act of 1973, as amended (Act; 16 U.S.C. 1531 et seq.), is a plant endemic to the White Bluffs of Franklin County, Washington. The draft recovery plan includes specific goals, objectives, and criteria that should be met prior to our consideration of removing the species from the Federal List of Endangered and Threatened Plants. We request review and comment on this draft recovery plan from Federal, State, and local agencies; Native American Tribes; and the public.

Background

The White Bluffs bladderpod is a short-lived, herbaceous perennial that occurs intermittently in a narrow, linear strip about 15 kilometers (9.3 miles) long, along sparsely vegetated upper and top exposures of the White Bluffs in eastern Washington State. This plant is closely associated with highly alkaline, cemented calcium carbonate soil along the Columbia River in the State of Washington. In April 2013, and as reaffirmed in December 2013, the White Bluffs bladderpod was listed as a threatened species pursuant to the Act (78 FR 23983; April 23, 2013; 78 FR 76995; December 20, 2013).

Recovery Planning Process

Recovery of endangered and threatened animals and plants is a primary goal of our endangered species program. To help guide the recovery effort, we prepare recovery plans for most listed species. Recovery plans describe actions considered necessary for conservation of the species, establish criteria for downlisting or delisting, and estimate time and cost for implementing recovery measures.

Recovery Planning and Implementation

The Service recently revised its approach to recovery planning, and is now using a process termed recovery planning and implementation (RPI) (see https://www.fws.gov/endangered/esa-library/pdf/RPI.pdf). The RPI approach is intended to reduce the time needed to develop and implement recovery plans, increase recovery plan relevancy over a longer timeframe, and add flexibility to recovery plans so they can be adjusted to new information or circumstances. Under RPI, a recovery plan includes the statutorily required elements under section 4(f) of the Act (objective and measurable recovery criteria, site-specific management actions, and estimates of time and costs), a concise introduction, and our strategy for how we plan to achieve species recovery. The RPI recovery plan is supported by two supplementary documents: A species status assessment or biological report, which describes the best available scientific information related to the biological needs of the species and assessment of threats; and the recovery implementation strategy, which details the particular near-term activities needed to implement the recovery actions identified in the recovery plan. Under this approach, we can more nimbly incorporate new information on species biology or details of recovery implementation by updating these supplementary documents without concurrent revision of the entire recovery plan, unless changes to statutorily required elements are necessary.

Recovery Plan Components

The primary recovery strategy for the White Bluffs bladderpod is to increase the capability of populations to withstand stochastic events; to establish new populations as possible and appropriate; to provide a safety margin against catastrophic events; and to increase the ecological and/or genetic diversity of the subspecies. Recovery will hinge on two types of strategies, direct and indirect, to improve habitat, reduce threats, and preserve or enhance the ability of individuals to survive and reproduce in the range of conditions they are likely to experience.

We may initiate an assessment of whether recovery has been achieved and delisting is warranted when the recovery criteria have been met, including once a second population has been discovered or established on conserved lands and is managed in a way that is compatible with White Bluffs bladderpod conservation. All populations must be self-sustaining.

Request for Public Comments

Section 4(f) of the Act requires us to provide public notice and an opportunity for public review and comment during recovery plan development. It is also our policy to request peer review of recovery plans (59 FR 34270; July 1, 1994). In an appendix to the approved final recovery plan, we will summarize and respond to the issues raised during public comment and peer review. Substantive comments may or may not result in changes to the recovery plan. Comments regarding recovery plan implementation will be forwarded as appropriate to Federal and other entities so that they can be taken into account during the course of implementing recovery actions.

We will consider all comments we receive by the date specified in DATES prior to final approval of the plan.

Public Availability of Comments

Before including your address, phone number, email address, or other personal identifying information in your comment, you should be aware that your entire comment—including your personal identifying information—may be made publicly available at any time. While you can ask us in your comment to withhold your personal identifying information from public review, we cannot guarantee that we will be able to do so.

Authority

The authority for this action is section 4(f) of the Endangered Species Act of 1973, as amended (16 U.S.C. 1531 et seq.).

Robyn Thorson,
Regional Director, U.S. Fish and Wildlife Service.

[FR Doc. 2021-16521 Filed 8-2-21; 8:45 am]

BILLING CODE 4333-15-P